DEPARTMENT OF AGRICULTURE

Animal and Plant Health Inspection Service

[Docket No. APHIS-2019-0057]

Import Requirements for the Importation of Fresh Sand Pears From Japan Into the United States

AGENCY: Animal and Plant Health Inspection Service, USDA.

ACTION: Notice of availability.

SUMMARY: We are advising the public that we have prepared a pest risk analysis relative to the importation into the United States of sand pears (Pyrus pyrifolia) fruit from Japan. Currently, sand pears may only be imported from certain authorized production areas within Japan. Based on the findings of the analysis, we are proposing to authorize the importation of sand pears from all of Japan, rather than specific areas of production, and to revise the conditions under which sand pears from Japan may be imported into the United States. We are making the pest risk analysis available to the public for review and comment.

DATES: We will consider all comments that we receive on or before November 22, 2019.

ADDRESSES: You may submit comments by either of the following methods:

• Federal eRulemaking Portal: Go to http://www.regulations.gov/#!docketDetail;D=APHIS-2019-0057.

• Postal Mail/Commercial Delivery: Send your comment to Docket No. APHIS-2019-0057, Regulatory Analysis and Development, PPD, APHIS, Station 3A-03.8, 4700 River Road Unit 118, Riverdale, MD 20737-1238.

Supporting documents and any comments we receive on this docket may be viewed at http://www.regulations.gov/#!docketDetail;D=APHIS-2019-0057 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Tony Roman, Senior Regulatory Policy Specialist, RCC, IRM, PHP, PPQ, APHIS, 4700 River Road Unit 133, Riverdale, MD 20737-1236; (301) 851-2242.

SUPPLEMENTARY INFORMATION: Under the regulations in “Subpart L—Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the new importation of fruits and vegetables into the United States, as well as revising existing requirements for the importation of fruits and vegetables. Paragraph (c) of that section provides that the name and origin of all fruits and vegetables authorized importation into the United States, as well as the requirements for their importation, are listed on the internet in APHIS' Fruits and Vegetables Import Requirements database (FAVIR) (https://epermits.aphis.usda.gov/manual/). It also provides that, if the Administrator determines that any of the phytosanitary measures required for the importation of a particular fruit or vegetable are no longer necessary to reasonably mitigate the plant pest risk posed by the fruit or vegetable, APHIS will publish a notice in the Federal Register making its pest risk analysis and determination available for public comment.

Sand pears fruit from Japan are currently listed in FAVIR as a fruit authorized importation into the United States, subject to the following phytosanitary measures for shipments to any U.S. State or territory other than Hawaii:

• The sand pears must be produced in one of the following prefectures: Tottori, Nagano, Fukushima, or Ibaraki.

• The sand pears must be accompanied by a phytosanitary certificate issued by the national plant protection organization (NPPO) of Japan with an additional declaration that the pears were inspected and found free of plant pests, including Carposina nipponensis, peach fruit moth, Adoxophyes orana, smaller tea tortrix, and Conogethes punctiferalis, yellow peach moth.

• The sand pears are subject to inspection at the port of entry into the United States.

• Only commercial consignments of sand pears may be imported into the United States.

• The sand pears must be imported under permit.

Currently, sand pears may be imported into Hawaii under permit, and subject to inspection in Hawaii, without any further phytosanitary requirements. APHIS received a request from the NPPO of Japan to authorize the importation of sand pears from all prefectures of Japan (excluding Amami, Bonin, Ryukyu, Tokara, and Volcano Islands).

In response to Japan's request, we have prepared a pest list regarding the pests of quarantine significance that could follow the pathway of importation of fresh sand pears from Japan into the United States. The pest list identifies the following quarantine pests as potentially following the pathway:

• Alternaria kikuchiana, black spot of Japanese pear.

• Carposina sasaki, peach fruit moth.

• Ceroplastes japonicus, tortoise wax scale.

• Ceroplastes rubens, red wax scale.

• Conogethes punctiferalis, yellow peach moth.

• Crisicoccus matsumotoi, a mealybug.

• Grapholita inopinata, Manchurian fruit moth.

• Hoplocampa pyricola, pear fruit sawfly.

• Monilinia fructigena, a fungal pathogen.

• Resseliella yagoi, a gall midge.

Based on the findings of the pest list, a commodity import evaluation document (CIED) was prepared to identify phytosanitary measures that could be applied to the importation of sand pears from Japan to mitigate the risk posed by these pests.

We have concluded that sand pears can safely be imported from all of Japan (excluding Amami, Bonin, Ryukyu, Tokara, and Volcano Islands), using the following phytosanitary measures for imports to any U.S. State or territory other than Hawaii. We would remove prefecture restrictions on the area of production in Japan, and remove the additional declaration on phytosanitary certificates. Requirements for the importation of sand pears to Hawaii would remain unchanged. The proposed requirements are:

• The sand pears must be accompanied by a phytosanitary certificate issued by the NPPO of Japan.

• The sand pears are subject to inspection at the port of entry into the United States.

• Only commercial consignments of Japanese sand pears may be imported into the United States.

• The sand pears must be imported under permit.

Therefore, in accordance with § 319.56-4(c)(3), we are announcing the availability of our pest list and CIED for public review and comment. Those documents, as well as a description of the economic considerations associated with the importation of fresh sand pears from all of Japan (excluding Amami, Bonin, Ryukyu, Tokara, and Volcano Islands), may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding whether to revise the requirements for the importation of sand pears from Japan in a subsequent notice. If the overall conclusions of our analysis and the Administrator's determination of risk remain unchanged following our consideration of the comments, then we will revise the requirements for the importation of sand pears fruit from Japan in accordance with this notice.

Authority: 7 U.S.C. 1633, 7701-7772, and 7781-7786; 21 U.S.C. 136 and 136a; 7 CFR 2.22, 2.80, and 371.3.

Done in Washington, DC, this 17th day of September 2019.
Kevin Shea,
Administrator, Animal and Plant Health Inspection Service.

[FR Doc. 2019-20532 Filed 9-20-19; 8:45 am]

BILLING CODE 3410-34-P